CORPORATION FOR NATIONAL AND COMMUNITY SERVICE

eGrants Orientation Conference Calls for Organizations Interested in Applying for an AmeriCorps*National Program Grant

AGENCY: Corporation for National and Community Service.

ACTION: Notice of eGrants Orientation Conference Calls for AmeriCorps*National new applicants.

SUMMARY: The Corporation is offering eGrants Orientation Conference Calls for organizations interested in applying for an AmeriCorps*National program grant. These training telcons will provide an orientation on the basic functions and operations of the eGrants system. We will familiarize organizations with the technical steps of preparing and submitting an application using the eGrants system. For more information on the eGrants system, see: http://www.nationalservice.org/egrants/index.html.

Audience: Nonprofit organizations applying for an AmeriCorps*National program grant using the eGrants system.

Dates and Times of Calls: The calls will take place on:

February 3rd, 1 pm-3 pm est;

February 7th, 1:30 pm-3:30 pm est;

February 19th, 1 pm-3 pm est;

February 20th, 2 pm-4 pm est.

All calls will cover the same content. Please note that there is a limit of 8 participant slots per call. Each organization may sign-up for one slot.

Process and Deadline for Registering for a call: Select one of the call dates specified above, then contact Sueko Kumagai via e-mail (skumagai@cns.gov) or phone (202-606-5000 ext. 418) with your selected date. You must respond no later than five days prior to your selected call to reserve a slot on one of the calls.

FOR FURTHER INFORMATION CONTACT: For further information, contact one of the following: Sueko Kumagai at 202-606-5000 ext. 418; or Lois Nembhard at 202-606-5000 ext. 299.

Dated: January 22, 2003.
John Foster-Bey,
Director, AmeriCorps*State/National.

[FR Doc. 03-1805 Filed 1-27-03; 8:45 am]

BILLING CODE 6050-$$-P